FEDERAL COMMUNICATIONS COMMISSION

47 CFR Part 63

[WC Docket No. 17-84; FCC 17-154]

Accelerating Wireline Broadband Deployment by Removing Barriers to Infrastructure Investment

AGENCY: Federal Communications Commission.

ACTION: Final rule; announcement of effective date.

SUMMARY: In this document, the Commission announces that the Office of Management and Budget (OMB) has approved, for a period of three years, the information collection associated with the Commission's discontinuance rules. This document is consistent with the Accelerating Wireline Broadband Deployment by Removing Barriers to Infrastructure Investment Report and Order, Declaratory Ruling, and Further Notice of Proposed Rulemaking, FCC 17-154, which stated that the Commission would publish a document in the Federal Register announcing the effective date of those rules.

DATES: The amendment to 47 CFR 63.60(d)-(i) and 63.71(k) published at 82 FR 61453, December 28, 2017, is effective on May 9, 2018.

FOR FURTHER INFORMATION CONTACT: Michele Levy Berlove, Attorney Advisor, Wireline Competition Bureau, at (202) 418-1477, or by email at Michele.Berlove@fcc.gov. For additional information concerning the Paperwork Reduction Act information collection requirements, contact Nicole Ongele at (202) 418-2991 or nicole.ongele@fcc.gov.

SUPPLEMENTARY INFORMATION: This document announces that, on May 1, 2018, OMB approved, for a period of three years, the information collection requirements relating to certain discontinuance rules contained in the Commission's Accelerating Wireline Broadband Deployment by Removing Barriers to Infrastructure Investment Report and Order, Declaratory Ruling, and Further Notice of Proposed Rulemaking, FCC 17-154, published at 82 FR 61453, December 28, 2017, as specified above.

The OMB Control Number is 3060-0149. The Commission publishes this document as an announcement of the effective date of the rules. If you have any comments on the burden estimates listed below, or how the Commission can improve the collections and reduce any burdens caused thereby, please contact Nicole Ongele, Federal Communications Commission, Room 1-A620, 445 12th Street SW, Washington, DC 20554. Please include the OMB Control Number, 3060-0149, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 1, 2018, for the information collection requirements contained in the modifications to the Commission's rules in 47 CFR part 63. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0149.

The foregoing notice is required by the Paperwork Reduction Act of 1995, Public Law 104-13, October 1, 1995, and 44 U.S.C. 3507.

The total annual reporting burdens and costs for the respondents are as follows:

OMB Control Number: 3060-0149.

OMB Approval Date: May 1, 2018.

OMB Expiration Date: May 31, 2021.

Title: Part 63, Accelerating Wireline Broadband Deployment by Removing Barriers to Infrastructure Investment, WC Docket No. 17-84, FCC 17-154.

Form Number: N/A.

Respondents: Business or other for-profit entities.

Number of Respondents and Responses: 58 respondents; 58 responses.

Estimated Time per Response: 6 hours.

Frequency of Response: One-time reporting requirement and third-party disclosure requirements.

Obligation to Respond: Required to obtain or retain benefits. Statutory authority for this collection of information is contained in 47 U.S.C. Sections 214 and 402 of the Communications Act of 1934, as amended.

Total Annual Burden: 348 hours.

Total Annual Cost: No cost(s).

Privacy Act Impact Assessment: No impact(s).

Nature and Extent of Confidentiality: The Commission is not requesting that the respondents submit confidential information to the FCC. Respondents may, however, request confidential treatment for information they believe to be confidential under 47 CFR 0.459 of the Commission's rules.

Needs and Uses: The Commission is seeking Office of Management and Budget (OMB) approval for a revision to a currently approved collection. Section 214 of the Communications Act of 1934, as amended, requires that a carrier first obtain FCC authorization either to (1) construct, operate, or engage in transmission over a line of communications, or (2) discontinue, reduce or impair service over a line of communications. Part 63 of Title 47 of the Code of Federal Regulations (CFR) implements Section 214. Part 63 also implements provisions of the Cable Communications Policy Act of 1984 pertaining to video which was approved under this OMB Control Number 3060-0149. In 2009, the Commission modified part 63 to extend to providers of interconnected Voice of internet Protocol (VoIP) service the discontinuance obligations that apply to domestic non-dominant telecommunications carriers under Section 214 of the Communications Act of 1934, as amended. In 2014, the Commission adopted improved administrative filing procedures for domestic transfers of control, domestic discontinuances and notices of network changes, and among other adjustments, modified part 63 to require electronic filing for applications for authorization to discontinue, reduce, or impair service under section 214(a) of the Act. In July 2016, the Commission revised certain section 214(a) discontinuance procedures. OMB has approved the revised rules that: (1) Allow carriers to provide notice via email or other alternative methods to offer additional options to customers; (2) provide for streamlined treatment of applications to discontinue services for which the carrier has had no existing customers or reasonable requests for service during the previous 180 days; (3) make a competitive LEC's application for discontinuance deemed granted on the effective date of any copper retirement that made the discontinuance unavoidable; and (4) require that applicants must provide notice of discontinuance applications to federally-recognized Tribal Nations. OMB approval has not yet been sought for the additional section 214(a) discontinuance rules adopted in 2016 pertaining to streamlined treatment of discontinuance applications for legacy voice service as part of a technology transition or outreach requirements for such transitions, and approval of those rules and requirements will be addressed separately at a later date. In Accelerating Wireline Broadband Deployment by Removing Barriers to Infrastructure Investment, WC Docket No. 17-84, Report and Order, Declaratory Ruling, and Further Notice of Proposed Rulemaking, FCC 17-154 (rel. Nov. 29, 2017) (Wireline Infrastructure Order), the Commission, among other things, reduced the public comment and auto-grant periods for applications that grandfather low speed legacy services and applications to discontinue previously grandfathered legacy data services. The Commission also held that if a carrier files an application to discontinue, reduce, or impair a legacy voice or data service below 1.544 Mbps for which it has had no customers and no request for service for at least a 30-day period immediately preceding submission of the application, that application will be automatically granted on the 15th day after its filing with the Commission, absent Commission notice to the contrary. The Commission will use the information collected under these revisions to 47 CFR part 63 to determine if affected respondents are in compliance with its rules and the requirements of section 214 of the Communications Act of 1934, as amended.

Federal Communications Commission.
Marlene Dortch,
Secretary, Office of the Secretary.

[FR Doc. 2018-09874 Filed 5-8-18; 8:45 am]

BILLING CODE 6712-01-P